DEPARTMENT OF ENERGY

Federal Energy Regulatory Commission

[Docket No. ER03-1410-001, et al.]

Fitchburg Gas and Electric Light Company, et al.; Electric Rate and Corporate Filings

August 9, 2004.

The following filings have been made with the Commission. The filings are listed in ascending order within each docket classification.

1. Fitchburg Gas and Electric Light Company

[Docket No. ER03-1410-001]

Take notice that on July 30, 2004, Fitchburg Gas and Electric Light Company (FG&E) tendered for filing with the Commission an informational filing relating to the formula rates charged under its First Revised Open Access Transmission Tariff. FG&E states that the filing revises the annual transmission revenue requirement for Network Integration Transmission Service and charges for Firm and Non-firm Point-to-Point Transmission Service for the period June 1, 2004 through May 31, 2005 pursuant to FG&E's formula rates on file with the Commission.

FG&E states that a copy of the filing was served upon the Massachusetts Department of Telecommunications and Energy and on affected wholesale customers.

Comment Date: 5 p.m. eastern time on August 20, 2004.

2. American Electric Power Service Corporation; PJM Interconnection, L.L.C.

[Docket No. ER04-1072-000]

On August 5, 2004, the Commission issued a “Notice of Filing” in the above-referenced docket number. The notice was issued in error and is hereby rescinded.

3. American Electric Power Service Corporation; PJM Interconnection, L.L.C.

[Docket No. ER04-1072-000]

Take notice that on July 30, 2004, American Electric Power Service Corporation, as agent for certain operating companies of the American Electric Power System, (collectively AEP) and PJM Interconnection, L.L.C. (PJM), tendered for filing unexecuted Service Agreement No. 1055 under PJM's FERC Electric Tariff, Sixth Revised Volume No. 1 to meet the condition in the Commission's orders to hold harmless utilities in Michigan and Wisconsin from the financial impacts of loop flows and congestion resulting from the choice of AEP to participate as a transmission-owning member of PJM. AEP and PJM request an effective date of October 1, 2004.

AEP and PJM state that a copy of the filing was served upon parties to Docket No. ER04-364, AEP's transmission service customers, PJM members, the Midwest ISO, and the state regulatory commissions exercising jurisdiction over AEP.

Comment Date: 5 p.m. eastern time on August 20, 2004.

4. Westar Energy, Inc.; Kansas Gas and Electric Company

[Docket No. ER04-1083-000]

Take notice that on August 3, 2004, Westar Energy, Inc. (WE) submitted for filing Annually Revised Exhibit Pages 32-39, 41-50 to WE's Electric Power Transmission, and Service Contract with Kansas Electric Power Cooperative (KEPCo). WE also submitted, on behalf of its wholly owned subsidiary Kansas Gas and Electric Company, d/b/a Westar Energy (KGE), Revised Pages 32-26 to KGE's Electric Power, Transmission and Service Contract with KEPco. These revisions are part of WE's and KGE's annual exhibits filed with the Commission. WE requests an effective date of June 1, 2004 for the proposed revised pages.

WE states that copies of the filing were served upon KEPCo and the Kansas Corporation Commission.

Comment Date: 5 p.m. eastern time on August 24, 2004.

5. Southern California Edison Company

[Docket No. ER04-1084-000]

Take notice that on August 3, 2004 Southern California Edison Company (SCE) submitted for filing Service Agreement No. 26 under SCE's FERC Electric Tariff, Second Revised Volume No. 6, a Letter Agreement between SCE and the Blythe Energy, LLC (Blythe Energy). SCE states that the purpose of the Agreement is for SCE to provide Blythe Energy with certain transmission engineering and real estate data for two separate transmission projects: one from Western Area Power Administration's (Western) Buck Blvd. Substation to SCE's 230kV substation facilities at Metropolitan Water District's Julian Hinds Pumping Plant Substation and the other from Western's Buck Blvd. Substation to a new 500-230-161 kV substation to be located adjacent to or under SCE's existing Palo Verde-Devers transmission line.

SCE states that copies of the filing were served upon the Public Utilities Commission of the State of California and Blythe Energy.

Comment Date: 5 p.m. eastern time on August 24, 2004.

6. Panda Power Corporation

[Docket No. ER04-1086-000]

Take notice that on August 3, 2004, Panda Power Corporation filed a Notice of Cancellation of its Electric Rate Schedule FERC No. 1, to be effective January 1, 2004.

Comment Date: 5 p.m. eastern time on August 24, 2004.

7. California Independent System Operator Corporation

[Docket No. ER04-1087-000]

Take notice that on August 3, 2004, the California Independent System Operator Corporation (ISO) tendered for filing Amendment No. 62 to the ISO Tariff. ISO states that the amendment modifies ISO tariff provisions regarding the implementation of a Real-Time Market Application and application of Uninstructed Deviation Penalties previously approved by the Commission.

ISO states that this filing has been served upon the Public Utilities Commission, the California Energy Commission, the California Electricity Oversight Board, all parties in Docket Nos. ER03-1046 and ER04-609, and all parties with effective Scheduling Coordinator Agreements under the ISO Tariff.

Comment Date: 5: p.m. eastern time on August 24, 2004.

8. Southwest Power Pool, Inc.

[Docket No. ER04-1088-000]

Take notice that on August 3, 2004, Southwest Power Pool, Inc. (SPP) submitted for filing an executed service agreement for Network Integration Transmission Service and an executed Network Operating Agreement with Southwestern Public Service Company (Southwestern). SPP requests an effective date of July 8, 2004..

SPP states that Southwestern was served with a copy of this filing.

Comment Date: 5 p.m. eastern time on August 24, 2004.

9. El Paso Electric Company

[Docket No. ER04-1089-000]

Take notice that on August 3, 2004, El Paso Electric Company (EPE) filed a Notice of Cancellation of Supplement No. 5 to FERC Electric Rate Schedule No. 16, a Contingent Capacity Agreement between EPE and Public Service Company of New Mexico. EPE requests an effective date October 1, 2004.

Comment Date: 5 p.m. eastern time on August 24, 2004.

10. Tucson Electric Power Company

[Docket No. ER04-1090-000]

Take notice that on August 3, 2004, Tucson Electric Power Company (Tucson Electric) tendered for filing Service Agreement No. 233 under Tucson Electric's FERC Electric Tariff Third Revised Volume No. 2, an Interconnection Agreement between Tucson Electric and Navopache Electric Cooperative. Tucson Electric requests an effective date of August 3, 2004.

Comment Date: 5 p.m. eastern time on August 24, 2004.

11. Illinois Power Company

[Docket No. ER04-1092-000]

Take notice that on August 3, 2004, Illinois Power Company (Illinois Power) submitted for filing a revised version of Service Agreement No. 390, pursuant to which Illinois Power takes Network Integration Transmission Service under its Open Access Transmission Tariff for the purpose of serving retail native load customers. Illinois Power requests an effective date of August 1, 2004.

Comment Date: 5 p.m. eastern time on August 24, 2004.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, . using the “eLibrary” link and is available for review in the Commission's Public Reference Room in Washington, DC. There is an “eSubscription” link on the Web site that enables subscribers to receive email notification when a document is added to a subscribed docket(s). For assistance with any FERC Online service, please e-mail FERCOnlineSupport@ferc.gov, . or call (866) 208-3676 (toll free). For TTY, call (202) 502-8659.

Magalie R. Salas,
Secretary.

[FR Doc. E4-1824 Filed 8-12-04; 8:45 am]

BILLING CODE 6717-01-P